DEPARTMENT OF THE INTERIOR

Bureau of Land Management

[WY-060-1320-EL, WYW151133]

Federal Coal Lease Application, Wyoming

AGENCY: Bureau of Land Management, Interior.

ACTION: Notice of availability of a final Environmental Assessment on the Belle Ayr 2000 Federal Coal Lease Application in the decertified Powder River Federal Coal Production Region, Wyoming.

SUMMARY: Pursuant to the National Environmental Policy Act (NEPA) and implementing regulations and other applicable statutes, the Bureau of Land Management (BLM) announces the availability of a Final Environmental Assessment (EA) for the Belle Ayr 2000 Coal Lease Application, BLM serial number WYW151133, in the Wyoming Powder River Basin. The final EA is being published in abbreviated format. Reviewers will need the Draft Environmental Assessment for the Belle Ayr 2000 Coal Lease Application, BLM, December, 2000, for review of the complete EA. The EA analyzes the impacts of issuing a Federal coal lease for the proposed Belle Ayr 2000 Federal coal tract. The Belle Ayr 2000 tract is being considered for sale as a result of a coal lease application received from RAG Wyoming Land Company (RAG) on July 28, 2000. The tract as applied for includes about 243.61 acres containing approximately 29 million tons of recoverable Federal coal reserves in Campbell County, Wyoming.

DATES: Written comments on the final EA will be accepted through May 11, 2001.

ADDRESSES: Please address questions, comments or requests for copies of the EA to the Casper Field Office, Bureau of Land Management, Attn: Nancy Doelger, 2987 Prospector Drive, Casper, Wyoming 82601; or you may e-mail them to the attention of Nancy Doelger at casper_wymail@blm.gov; or fax them to 307-261-7587.

FOR FURTHER INFORMATION CONTACT: Nancy Doelger or Mike Karbs at the above address, or phone 307-261-7600.

SUPPLEMENTARY INFORMATION: The application for the Belle Ayr 2000 tract was filed as a maintenance tract coal lease-by-application (LBA) under the provisions of 43 CFR 3425.1

On July 28, 2000, RAG filed coal lease application WYW151133 for the Belle Ayr 2000 Federal coal tract with the BLM for the following lands:

T. 48 N., R. 71W., 6th P.M., Campbell County, Wyoming

Section 28: Lots 3 through 6;

Section 29: Lots 1 and 6.

Total surface area applied for: 243.61 acres.

RAG had previously applied for a maintenance LBA that encompassed the coal resources included in the Belle Ayr 2000 lease application as well as additional coal resources northwest of the Belle Ayr 2000 lease application area on March 20, 1997. They filed a request to modify the 1997 Belle Ayr LBA by withdrawing the lands included in the Belle Ayr 2000 application on July 28, 2000. RAG then filed a separate lease application for the lands withdrawn from the original LBA and included in Belle Ayr 2000 Tract.

The Powder River Regional Coal Team reviewed the request to modify the Belle Ayr 1997 LBA application and the application for the Belle Ayr 2000 LBA at their public meeting on October 25, 2000, in Cheyenne, Wyoming, and recommended that BLM process it.

The draft EA was released to the public in early January 2001. The comment period on the draft EA ended in early February 2001. A public hearing was held at 7 p.m., MDT, on January 18, 2001, at the Clarion Western Plaza Motel, 2009 S. Douglas Highway, Gillette, Wyoming. The purpose of the hearing was to solicit public comments on the Draft EA, the fair market value, the maximum economic recovery, and the proposed competitive sale of the coal included in the proposed Belle Ayr 2000 Federal coal tract. Three written comment letters were received on the draft EA. They are included, with responses, in the final EA.

The Belle Ayr Mine, which is adjacent to the lease application area, has an approved mining and reclamation plan from the Land Quality Division of the Wyoming Department of Environmental Quality and an approved air quality permit from the Air Quality Division of the Wyoming Department of Environmental Quality to mine up to 45 million tons of coal per year. According to the application filed for the Belle Ayr 2000 tract, the maintenance tract would be mined to maintain production at the existing Belle Ayr Mine. The tract is also contiguous to an existing lease at the Caballo Mine.

The Belle Ayr 2000 tract is bounded on three sides by existing coal leases at the Belle Ayr and Caballo Mines. Under the approved mining plans for these two mines, a large portion of the tract will be disturbed when the adjacent leases are mined in order to recover all of the coal in those leases.

The EA analyzes two alternatives. The Proposed Action is to issue a maintenance lease for the Belle Ayr 2000 tract as applied for to the successful bidder at a competitive sealed bid sale. The second alternative, Alternative 1, is the No Action Alternative, which assumes that the application for the Belle Ayr 2000 tract is rejected.

The Office of Surface Mining Reclamation and Enforcement is a cooperating agency in the preparation of this EA because it is the Federal agency that would recommend approval or disapproval of the Mineral Leasing Act (MLA) mining plan for the Belle Ayr 2000 LBA tract to the Secretary of the Interior, if a lease is issued for the tract.

Comments, including names and street addresses of respondents, will be available for public review at the BLM Casper Field Office, 2987 Prospector Drive, Casper, Wyoming, during regular business hours (8 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives of officials of organizations or businesses, will be made available for public inspection in their entirety.

Dated: April 5, 2001.
Alan Rabinoff,
Deputy State Director, Minerals and Lands.

[FR Doc. 01-10052 Filed 4-23-01; 8:45 am]

BILLING CODE 4310-22-P